DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having an effect in order to qualify or remain qualified for participation in the Federal Emergency Management Agency's (FEMA's) National Flood Insurance Program (NFIP).

DATES: The date of December 26, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Jeffrey Jackson,
Deputy Assistant Administrator, Federal Insurance Directorate, Resilience, Federal Emergency Management Agency, Department of Homeland Security.

Community | Community map repository address
Johnson County, Iowa and Incorporated Areas
Docket Nos.: FEMA-B-2105, B-2279, B-2455
City of Coralville | City Hall, 1512 7th Street, Coralville, IA 52241.
City of Hills | City Office, 201 North 1st Street, Hills, IA 52235.
City of Iowa City | Civic Center, 410 East Washington Street, Iowa City, IA 52240.
City of Lone Tree | City Hall, 123 North Devoe Street, Lone Tree, IA 52755.
City of North Liberty | City Hall, 360 North Main Street, North Liberty, IA 52317.
City of Oxford | City Hall, 205 North Augusta Avenue, Oxford, IA 52322.
City of Shueyville | Shueyville City Hall, 2863 120th Street Northeast, Swisher, IA 52338.
City of Solon | City Hall, 101 North Iowa Street, Solon, IA 52333.
City of Swisher | City Hall, 66 2nd Street Southwest, Swisher, IA 52338.
City of Tiffin | City Hall, 300 Railroad Street, Tiffin, IA 52340.
City of University Heights | City Hall, 1302 Melrose Avenue, University Heights, IA 52246.
Unincorporated Areas of Johnson County | Johnson County Planning Development and Sustainability Department, 913 South Dubuque Street, Iowa City, IA 52240.
Harrison County, Missouri and Incorporated Areas
Docket No.: FEMA-B-2452
City of Bethany | City Hall, 206 North 16th Street, Bethany, MO 64424.
City of Cainsville | City Hall, 1413 Old Mill Road, Cainsville, MO 64632.
City of Gilman City | City Hall, 429 Main Street, Gilman City, MO 64642.
City of New Hampton | City Hall, 212 East Lincoln Street, New Hampton, MO 64471.
City of Ridgeway | City Hall, 606 Main Street, Ridgeway, MO 64481.
Unincorporated Areas of Harrison County | Harrison County Courthouse, 1505 Main Street, Bethany, MO 64424.
Village of Blythedale | Harrison County Courthouse, 1505 Main Street, Bethany, MO 64424.
Village of Eagleville | City Hall, 10028 10th Street, Eagleville, MO 64442.
Village of Mount Moriah | Harrison County Courthouse, 1505 Main Street, Bethany, MO 64424.

[FR Doc. 2025-15883 Filed 8-19-25; 8:45 am]

BILLING CODE 9110-12-P